DEPARTMENT OF ENERGY

Federal Energy Regulatory Commission

[Project No. P-13346-001]

Free Flow Power Corporation; Notice of Intent To File License Application, Filing of Pre-Application Document, and Approving Use of the Traditional Licensing Process

a. Type of Filing: Notice of Intent to File License Application and Request to Use the Traditional Licensing Process.

b. Project No. 13346-001.

c. Dated Filed: February 18, 2011.

d. Submitted By: Free Flow Power Corporation (Free Flow Power), on behalf of its subsidiary Paynebridge, LLC.

e. Name of Project: Williams Dam Water Power Project.

f. Location: At the existing Williams dam owned by the Indiana Department of Natural Resources on the East Fork of the White River in Lawrence County, Indiana. No Federal lands are occupied by the project works or located within the project boundary.

g. Filed Pursuant to: Federal Power Act, 16 U.S.C. 808(b)(1) and 18 CFR 5.5 of the Commission's regulations.

h. Potential Applicant Contact: Ramya Swaminathan, Chief Operating Officer, Free Flow Power Corporation, 239 Causeway Street, Boston, MA 02114-2130; or at (978) 283-2822.

i. FERC Contact: Aaron Liberty at (202) 502-6862; or e-mail at aaron.liberty@ferc.gov.

j. On February 18, 2011, Free Flow Power filed its request to use the Traditional Licensing Process and provided public notice of its request. On April 7, 2011, the Director, Division of Hydropower Licensing, approved the request to use the Traditional Licensing Process.

k. With this notice, we are initiating informal consultation with: (a) The U.S. Fish and Wildlife Service under section 7 of the Endangered Species Act and the joint agency regulations thereunder at 50 CFR part 402 and (b) the Indiana State Historic Preservation Officer, as required by section 106 of the National Historic Preservation Act, and the implementing regulations of the Advisory Council on Historic Preservation at 36 CFR 800.2.

l. With this notice, we are designating Free Flow Power as the Commission's non-Federal representative for carrying out informal consultation pursuant to section 7 of the Endangered Species Act and section 106 of the National Historic Preservation Act.

m. Free Flow Power filed a Pre-Application Document (PAD), including a proposed process plan and schedule with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Dated: April 8, 2011.
Kimberly D. Bose,
Secretary.

[FR Doc. 2011-9070 Filed 4-13-11; 8:45 am]

BILLING CODE 6717-01-P